DEPARTMENT OF TRANSPORTATION

Federal Aviation Administration

14 CFR Part 71

[Airspace Docket No. 00-ANM-5]

RIN 2120-AA66

Establishment of Jet Route J-713

AGENCY: Federal Aviation Administration (FAA), DOT.

ACTION: Final Rule.

SUMMARY: This action establishes Jet Route 713 (J-713) through Utah, Montana, and Wyoming. The FAA is taking this action to improve the management of air traffic operations at the Salt Lake City International Airport and to enhance safety.

EFFECTIVE DATE: 0901 UTC, September 6, 2001.

FOR FURTHER INFORMATION CONTACT: Ken McElroy, Airspace and Rules Division, ATA-400, Office of Air Traffic Airspace Management, Federal Aviation Administration, 800 Independence Avenue, SW., Washington,DC 20591; telephone: (202) 267-8783.

SUPPLEMENTARY INFORMATION:

History

On June 2, 2000, the FAA published in the Federal Register a notice to amend Title 14 Code of Federal Regulations (14 CFR) part 71 to establish J-713 (65 FR 35303). Interested parties were invited to participate in this rulemaking effort by submitting written comments on the proposal. No comments were received. Except for editorial changes this amendment is the same as that proposed in the notice.

The Rule

This action amends 14 CFR part 71 to establish J-713 through Utah, Montana, and Wyoming. The FAA is establishing J-713 for the following reasons: (1) The need for high altitude arrival and departure routing to and from the north of Salt Lake City; (2) to assist in the balancing of traffic flow between Brigham City One arrivals into Salt Lake City International Airport; and (3) the addition of this route will improve the overall management of air traffic operations and thereby enhance safety.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Jet routes are published in paragraph 2004 of FAA Order 7400.9H dated September 1, 2000, and effective September 16, 2000, which is incorporated by reference in 14 CFR 71.1. The jet route listed in this document will be published subsequently in the order.

List of Subjects in 14 CFR Part 71

Airspace, Incorporation by reference, Navigation (air).

The Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854,24 FR 9565, 3 CFR, 1959-1963 Comp., p.389.

§ 71.1 [Amended]

2. The incorporation by reference in 14 CFR 71.1 of the Federal Aviation Administration Order 7400.9H, Airspace Designations and Reporting Points, dated September 1, 2000, and effective September 16, 2000, is amended as follows:

Paragraph 2004 Jet Routes

* * * * *

J-713 [New]

From Billings, MT, via Boysen Reservoir, WY; Big Piney, WY; to Salt Lake City, UT.

* * * * *

Issued in Washington, DC, on June 20, 2001.
Reginald C. Matthews,
Manager, Airspace and Rules Division.

[FR Doc. 01-16181 Filed 6-26-01; 8:45 am]

BILLING CODE 4910-13-P